DEPARTMENT OF COMMERCE

International Trade Administration

[A-557-819]

Prestressed Concrete Steel Wire Strand From Malaysia: Final Affirmative Determination of Sales at Less Than Fair Value

AGENCY: Enforcement and Compliance, International Trade Administration, Department of Commerce.

SUMMARY: The Department of Commerce (Commerce) determines that prestressed concrete steel wire strand (PC strand) from Malaysia is being, or is likely to be, sold in the United States at less than fair value (LTFV). The final weighted-average dumping margins are listed below in the section entitled “Final Determination.”

DATES: Applicable April 9, 2021.

FOR FURTHER INFORMATION CONTACT: Justin Neuman or Kabir Archuletta, AD/CVD Operations, Office V, Enforcement and Compliance, International Trade Administration, U.S. Department of Commerce, 1401 Constitution Avenue NW, Washington, DC 20230; telephone: (202) 482-0486 or (202) 482-2593, respectively.

SUPPLEMENTARY INFORMATION:

Background

On November 19, 2020, Commerce published the Preliminary Determination in this investigation, and invited interested parties to comment on our findings.¹ The petitioners in this investigation are Insteel Wire Products, Sumiden Wire Products Corporation, and Wire Mesh Corp. The mandatory respondents subject to this investigation are Kiswire Sdn. Bhd. (Kiswire), Southern PC Steel Sdn. Bhd. (Southern), and Wei Dat Steel Wire Sdn Bhd (Wei Dat). A summary of the events that occurred since Commerce published the Preliminary Determination, as well as a full discussion of the issues raised by parties for this final determination, may be found in the Issues and Decision Memorandum.²

¹ See Prestressed Concrete Steel Wire Strand from Malaysia: Preliminary Affirmative Determination of Sales at Less Than Fair Value, Postponement of Final Determination, and Extension of Provisional Measures, 85 FR 73685 (November 19, 2020) (Preliminary Determination), and accompanying Preliminary Decision Memorandum (PDM).

² See Memorandum, “Issues and Decision Memorandum for the Final Affirmative Determination in the Less-Than-Fair-Value Investigation of Prestressed Concrete Steel Wire Strand from Malaysia,” dated concurrently with, and hereby adopted by, this notice (Issues and Decision Memorandum).

The Issues and Decision Memorandum is a public document and is available electronically via Enforcement and Compliance's Antidumping and Countervailing Duty Centralized Electronic Service System (ACCESS). ACCESS is available to registered users at https://access.trade.gov. In addition, a complete version of the Issues and Decision Memorandum can be accessed directly at http://enforcement.trade.gov/frn/index.html.

Period of Investigation

The period of investigation (POI) is April 1, 2019, through March 31, 2020.

Scope of the Investigation

The product covered by this investigation is PC strand from Malaysia. For a complete description of the scope of this investigation, see Appendix I.

Analysis of Comments Received

All issues raised in the case briefs and rebuttal briefs submitted by interested parties in this proceeding are discussed in the Issues and Decision Memorandum. A list of the issues raised by parties and responded to by Commerce in the Issues and Decision Memorandum is attached to this notice as Appendix II.

Verification

Commerce was unable to conduct an on-site verification of the information relied upon in making its final determination in this investigation as provided for in section 782(i) of the Tariff Act of 1930, as amended (the Act). Accordingly, we took additional steps in lieu of an on-site verification and requested additional documentation and information.³

³ See Commerce's Letter, “In Lieu of Verification Questionnaire,” dated December 10, 2020; and Commerce's Letter, “In Lieu of Verification Questionnaire,” dated December 16, 2020; see also Kiswire's Letter, “Prestressed Concrete Steel Wire Strand from Malaysia, Case No. A-557-819: KSB's Response to Questionnaire in Lieu of Verification,” dated December 21, 2020; and Wei Dat's Letter, “Prestressed Concrete Steel Wire Strand form Malaysia; Resubmission of December 23, 2020 Supplemental Questionnaire Response in Lieu of Verification,” dated January 8, 2021.

Changes Since the Preliminary Determination

Based on our analysis of the comments received, we made changes to the margins calculated for Wei Dat and Kiswire. For a discussion of these changes, see the Issues and Decision Memorandum.

Use of Facts Available and Adverse Facts Available

One of the mandatory respondents, Southern, withdrew from participation in this investigation.⁴ Therefore, in the Preliminary Determination, pursuant to sections 776(a) and 776(b) of the Act, we assigned to Southern an estimated weighted-average dumping margin based on adverse facts available (AFA). No parties filed comments concerning the Preliminary Determination with respect to Southern, and there is nothing on the record that would cause us to revisit the Preliminary Determination. Accordingly, we continue to find that the application of AFA pursuant to sections 776(a) and (b) of the Act is warranted with respect to Southern. Consistent with the Preliminary Determination, Commerce has assigned to Southern the highest individual margin calculated for Wei Dat, which is 26.95 percent.⁵ Because this rate is not secondary information, but rather is based on information obtained in the course of the investigation, Commerce need not corroborate this rate pursuant to section 776(c) of the Act.⁶ For further information, see the Preliminary Determination PDM.

⁴ See Preliminary Determination PDM at 4-8.

⁵ Based on changes made to the calculation of Wei Dat's margin, the highest individual margin for Wei Dat is different than the margin applied as AFA in the Preliminary Determination. However, neither the basis for the application of AFA nor the methodology for determining the AFA rate has changed for this final determination.

⁶ See Preliminary Determination PDM at 6-8.

In addition, we calculated Wei Dat's final dumping margin using partial AFA. For further information, see the Issues and Decision Memorandum.

All-Others Rate

Section 735(c)(5)(A) of the Act provides that the estimated weighted-average dumping margin for all other producers and exporters not individually investigated shall be equal to the weighted average of the estimated weighted-average dumping margins established for individually investigated exporters and producers, excluding any margins that are zero, de minimis, or any margins determined entirely under section 776 of the Act. Commerce assigned Southern a dumping margin that is entirely based on section 776(a) and (b) of the Act, and has calculated estimated weighted-average dumping margins for the two producer/exporters participating in this investigation, Kiswire and Wei Dat, that are not zero, de minimis, or based entirely on facts otherwise available. Consequently, we calculated the all-others rate using a weighted average of the estimated weighted-average dumping margins calculated for the individually examined mandatory respondents using each company's publicly ranged values for the merchandise under consideration.⁷

⁷ With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly-ranged U.S. sale values for the merchandise under consideration. Commerce then compares (B) and (C) to (A) and selects the rate closest to (A) as the most appropriate rate for producers and exporters not subject to individual examination. See Ball Bearings and Parts Thereof from France, Germany, Italy, Japan, and the United Kingdom: Final Results of Antidumping Duty Administrative Reviews, Final Results of Changed-Circumstances Review, and Revocation of an Order in Part, 75 FR 53661, 53663 (September 1, 2010). For a complete analysis of the data, see Memorandum, “Final Determination Calculation for the `All-Others' Rate,” dated concurrently with, and hereby adopted by, this notice.

Final Determination

The final estimated weighted-average dumping margins are as follows:

Exporter/producer | Weighted- average dumping margin (percent)
Kiswire Sdn. Bhd. | 3.94
Southern PC Steel Sdn. Bhd. | * 26.95
Wei Dat Steel Wire Sdn. Bhd. | 6.42
All Others | 5.13
* (Based on total AFA).

Disclosure

We intend to disclose to interested parties the calculations and analysis performed in this final determination within five days of any public announcement or, if there is no public announcement, within five days of the date of the publication of this notice to parties in this proceeding in accordance with 19 CFR 351.224(b).

Continuation of Suspension of Liquidation

In accordance with section 735(c)(1)(B) of the Act, Commerce will instruct U.S. Customs and Border Protection (CBP) to continue to suspend liquidation of all appropriate entries of subject merchandise, as described in Appendix I of this notice, entered, or withdrawn from warehouse, for consumption on or after November 19, 2020, the date of publication of the Preliminary Determination in the Federal Register.

Pursuant to section 735(c)(1)(B)(ii) of the Act and 19 CFR 351.210(d), upon publication of this notice, Commerce will instruct CBP to require a cash deposit for entries of subject merchandise equal to the estimated weighted-average dumping margin or the estimated all-others rate, as follows: (1) The cash deposit rate for the respondents listed in the table above will be equal to the respondent-specific estimated weighted-average dumping margin determined in this final determination; (2) if the exporter is not a respondent identified in the table above but the producer is, then the cash deposit rate will be equal to the estimated weighted-average dumping margin established for that producer of the subject merchandise; and (3) the cash deposit rate for all other producers and exporters will be equal to the all-others estimated weighted-average dumping margin.

These suspension of liquidation instructions will remain in effect until further notice.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports, or sales (or the likelihood of sales) for importation of PC strand no later than 45 days after our final determination. If the ITC determines that material injury or threat of material injury does not exist, the proceeding will be terminated, and all cash deposits will be refunded. If the ITC determines that material injury or threat of material injury does exist, Commerce will issue an antidumping duty order directing CBP to assess, upon further instruction by Commerce, antidumping duties on all imports of the subject merchandise, entered, or withdrawn from warehouse, for consumption on or after the effective date of the suspension of liquidation.

Notification Regarding Administrative Protective Order

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and the terms of an APO is a violation subject to sanction.

Notification to Interested Parties

We are issuing and publishing this determination and notice in accordance with sections 735(d) and 777(i) of the Act and 19 CFR 351.210(c).

Dated: April 5, 2021.
Christian Marsh,
Acting Assistant Secretary for Enforcement and Compliance.

Appendix I

Scope of the Investigation

The merchandise covered by this investigation is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft² standard set forth in ASTM-A-475.

The PC strand subject to this investigation is currently classifiable under subheadings 7312.10.3010 and 7312.10.3012 of the Harmonized Tariff Schedule of the United States (HTSUS). Although the HTSUS subheadings are provided for convenience and customs purposes, the written description of the scope of this investigation is dispositive.

Appendix II

List of Topics Discussed in the Issues and Decision Memorandum

I. Summary

II. Background

III. Scope of the Investigation

IV. Changes Since the Preliminary Determination

V. Discussion of the Issues

Comment 1: Whether Wei Dat's Testing and License Fees Should be Considered Direct or Indirect Selling Expenses

Comment 2: Whether Wei Dat Failed to Demonstrate that Its Movement Expenses on U.S. Sales Reflect Actual Costs

Comment 3: Whether Wei Dat Reported Incorrect U.S. Destination Information

Comment 4: Whether Wei Dat's Financial Interest Expense Rate is Understated

Comment 5: Whether to Deny Wei Dat's Scrap Offset

Comment 6: Whether Commerce Should Grant Kiswire's Claimed Scrap Offset

Comment 7: Whether Commerce Should Revise Kiswire's Reported Cost of Manufacturing (COM)

Comment 8: Whether Kiswire's U.S. Sales Should Be Classified as Constructed Export Price (CEP) Sales

Comment 9: Whether Commerce Erred in Calculating Kiswire's Margin in the Preliminary Determination

VI. Recommendation

[FR Doc. 2021-07367 Filed 4-8-21; 8:45 am]

BILLING CODE 3510-DS-P